DEPARTMENT OF THE INTERIOR

Bureau of Land Management

[AZ-010-04-1430-ES; AZA-31954]

Notice of Realty Action; Recreation and Public Purposes Classification; Arizona; Correction

AGENCY: Bureau of Land Management, Interior.

ACTION: Notice; correction.

SUMMARY: The Bureau of Land Management published a notice for Recreation and Public Purposes Classification in the Federal Register of March 8, 2004. The document contained an incorrect legal description.

Correction

In the Federal Register of March 8, 2004, FR Vol. 69, No. 45, on page 10741, in the first column, correct the legal description to read:

T. 41 N., R. 2 W., Sec. 22, W½NW¼NE¼NE¼; NW¼SW¼NE¼NE¼; N½NW¼NE¼; N½NE¼NW¼; N½S½NW¼NE¼, N½S½NE¼NW¼.

FOR FURTHER INFORMATION CONTACT: Linda Barwick, (435) 688-3287.

Dated: August 10, 2004.
Roger G. Taylor,
Arizona Strip Field Manager.

[FR Doc. 04-19061 Filed 8-19-04; 8:45 am]

BILLING CODE 4310-32-P